ENVIRONMENTAL PROTECTION AGENCY

[FRL-9670-5]

Clean Water Act Section 303(d): Availability of List Decisions

AGENCY: Environmental Protection Agency (EPA).

ACTION: Notice and Request for Comments.

SUMMARY: This notice announces EPA's decision identifying certain water quality limited waterbodies, and the associated pollutant, in Utah to be listed pursuant to the Clean Water Act Section 303(d)(2), and requests public comment. Section 303(d)(2) requires that States submit, and EPA approve or disapprove, lists of waters for which existing technology-based pollution controls are not stringent enough to attain or maintain State water quality standards and for which total maximum daily loads (TMDLs) must be prepared.

On April 11, 2012, EPA disapproved Utah's decision to not include Kanab Creek and tributaries, from the state line to irrigation diversion at confluence with Reservoir Canyon (“Kanab Creek and tributaries”), on the State's 2008 and 2010 Section 303(d) lists. EPA evaluated existing and readily available data and information and concluded that the applicable water quality criterion for total dissolved solids (TDS) for these waters is being exceeded. Based on this evaluation, EPA has determined that Kanab Creek and tributaries are not fully attaining the water quality standards established by the State of Utah and should be included on the State's lists of impaired waters.

EPA is providing the public the opportunity to review its decision to add these waters to Utah's 2008 and 2010 Section 303(d) lists, as required by 40 CFR 130.7(d)(2). EPA will consider public comments before transmitting its final listing decision to the State.

DATES: Comments must be submitted to EPA on or before June 11, 2012.

ADDRESSES: Comments on the proposed decision should be sent to Kris Jensen, Water Quality Unit (8EPR-EP), U.S. Environmental Protection Agency Region 8, 1595 Wynkoop Street, Denver, CO 80202-1129, telephone (303) 312-6237, facsimile (303) 312-7517, email jensen.kris@epa.gov. Oral comments will not be considered. Copies of EPA's letter concerning Utah's list that explains the rationale for EPA's decision can be obtained at EPA Region 8's Web site at http://www.epa.gov/region08/water/tmdl, or by writing or calling Ms. Jensen at the above address. Underlying documents from the administrative record for these decisions are available for public inspection at the above address. Please contact Ms. Jensen to schedule an inspection.

FOR FURTHER INFORMATION CONTACT: Kris Jensen at (303) 312-6237 or jensen.kris@epa.gov.

SUPPLEMENTARY INFORMATION: Section 303(d) of the Clean Water Act (CWA) requires that each state identify those waters for which existing technology-based pollution controls are not stringent enough to attain or maintain state water quality standards. For those waters, states are required to establish TMDLs according to a priority ranking.

EPA's Water Quality Planning and Management regulations include requirements related to the implementation of Section 303(d) of the CWA (40 CFR 130.7). The regulations require states to identify water-quality-limited waters still requiring TMDLs every two years. The lists of waters still needing TMDLs must also include priority rankings, identify the pollutants causing the impairment, and must identify the waters targeted for TMDL development during the next two years (40 CFR 130.7).

Consistent with EPA's regulations, Utah submitted to EPA its listing decisions under Section 303(d)(2) in correspondence dated March 31, 2011 and April 21, 2011. On February 10, 2012, EPA partially approved with further review pending for Kanab Creek and tributaries, Utah's 2008 and 2010 listings of waters and associated priority rankings. On April 11, 2012, EPA disapproved Utah's decision to not include Kanab Creek and tributaries, from state line to irrigation diversion at confluence with Reservoir Canyon on the 2008 and 2010 lists. EPA solicits public comment on the addition of these waters to the State's list, as required by 40 CFR 130.7(d)(2).

Authority: Clean Water Act, 33 U.S.C. 1251 et seq.

Dated: April 26, 2012.
Martin Hestmark,
Acting Assistant Regional Administrator, Office of Ecosystems Protection and Remediation.

[FR Doc. 2012-11428 Filed 5-10-12; 8:45 am]

BILLING CODE 6560-50-P